DEPARTMENT OF TRANSPORTATION

Maritime Administration

[Docket No. DOT MARAD 2023-0055]

Request for Comments on the Renewal of a Previously Approved Information Collection: Application and Reporting Elements for Participation in the Tanker Security Program

AGENCY: Maritime Administration, DOT.

ACTION: 60-Day Federal Register notice.

SUMMARY: The Maritime Administration (MARAD) invites public comments on our intention to request the Office of Management and Budget (OMB) approval to renew an information collection in accordance with the Paperwork Reduction Act of 1995. The proposed collection OMB 2133-0554 (Application and Reporting Elements for Participation in the Tanker Security Program) will be used to evaluate the eligibility of the applicant for participation in the Tanker Security Program (TSP). A minor change request to include a privacy act statement for the collection of personally identifiable information will be added to the form for this collection. The Paperwork Reduction Act of 1995 requires that we publish this notice in the Federal Register to obtain comments from the public and affected agencies.

DATES: Comments must be submitted on or before May 19, 2023.

ADDRESSES: You may submit comments identified by Docket No. DOT-MARAD-2023-0055 through one of the following methods:

• Federal eRulemaking Portal: www.regulations.gov. Search using the above DOT docket number and follow the online instructions for submitting comments.

• Mail or Hand Delivery: Docket Management Facility, U.S. Department of Transportation, 1200 New Jersey Avenue SE, West Building, Room W12-140, Washington, DC 20590, between 9 a.m. and 5 p.m., Monday through Friday, except on Federal holidays.

Comments are invited on: (a) whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

FOR FURTHER INFORMATION CONTACT: David Hatcher, (202) 366-0688, Office of Sealift Support, Maritime Administration, 1200 New Jersey Avenue SE, Washington, DC 20590, Email: David.Hatcher1@dot.gov.

SUPPLEMENTARY INFORMATION:

Title: Application and Reporting Elements for Participation in the Tanker Security Program.

OMB Control Number: 2133-0554.

Type of Request: Renewal of a previously approved information collection.

Abstract: The National Defense Authorization Act for Fiscal Year 2021 (FY21 NDAA) authorized the Secretary of Transportation to establish the Tanker Security Program (TSP) comprised of a fleet of active, commercially viable, militarily useful, privately owned product tank vessels of the United States. The fleet will meet national defense and other security requirements and maintain a United States presence in international commercial shipping. The National Defense Authorization for Fiscal Year 2022 (FY22 NDAA) made minor adjustments related to the participation of long-term charters in the TSP. OMB 2133-0554 (Application and Reporting Elements for Participation in the Tanker Security Program) provides for enrollment of eligible tank vessels in the program for FY 2022 through FY 2035.

This information collection supports the Department of Transportation's strategic goal for National Security. A fuel tanker study required by the fiscal year 2020 National Defense Authorization Act (FY20 NDAA) examined the sufficiency of the U.S.-flagged tanker fleet to meet National Defense Strategy (NDS) requirements. The report's summary found there to be a substantial risk to the nation's defense associated with a heavy reliance on foreign-flagged tankers, particularly within a contested environment. The location, timing, and specific missions associated with some tanker requirements dictate the need for U.S.- flagged assets, for which there currently are insufficient numbers available. The report's gap analysis found a clear and critical need for a tanker security program to increase U.S.-flagged tanker capacity, to reduce the risk of reliance on foreign-flagged tankers for the most important fuel missions, and to ensure the Department of Defense (DoD) has sufficient tanker capabilities to meet NDS objectives.

In response to the FY20 NDAA Fuel Tanker Study, Congress directed in the FY21 NDAA, with minor adjustments in the FY22 NDAA, that the Secretary of Transportation, in consultation with the Secretary of Defense, establish a fleet of active, commercially viable, militarily useful, privately owned product tanker vessels to meet national defense and other security requirements and maintain a United States presence in international commercial shipping. The Maritime Administration worked with the DoD's United States Transportation Command to identify and shape TSP requirements and timelines.

Respondents: Vessel Owners.

Affected Public: Business Assistance, Water Transportation Operations, Merchant Marine.

Estimated Number of Respondents: 10.

Estimated Number of Responses: 160.

Estimated Hours per Response: 1.75.

Annual Estimated Total Annual Burden Hours: 280.

Frequency of Response: Annually.

(Authority: The Paperwork Reduction Act of 1995; 44 U.S.C. Chapter 35, as amended; and 49 CFR 1.49.)

* * * * *

By Order of the Acting Maritime Administrator.
T. Mitchell Hudson, Jr.,
Secretary, Maritime Administration.

[FR Doc. 2023-05578 Filed 3-17-23; 8:45 am]

BILLING CODE 4910-81-P